DEPARTMENT OF COMMERCE

National Oceanic and Atmospheric Administration

[RTID 0648-XW012]

Magnuson-Stevens Act Provisions; General Provisions for Domestic Fisheries; Pacific Coast Groundfish Fishery; Applications for Exempted Fishing Permits (EFP)

AGENCY: National Marine Fisheries Service (NMFS), National Oceanic and Atmospheric Administration (NOAA), Commerce.

ACTION: Notice; request for comments.

SUMMARY: NMFS announces renewal request applications for three exempted fishing permits. The applications, submitted by the San Francisco Community Fishing Association, Scott Cook, and Real Good Fish, request exemptions from prohibitions to fish for rockfish species inside the non-trawl Rockfish Conservation Areas during the 2020 fishing year. All three applicants request to test hook-and-line gear that selectively harvests underutilized, midwater rockfish species while avoiding bottom-dwelling, overfished rockfish species. NMFS previously evaluated these projects and issued exempted fishing permits for these applicants for the 2019 fishing year. NMFS requests public comment on these applications for the 2020 fishing year.

DATES: Comments must be received by December 12, 2019.

ADDRESSES: You may submit comments on this document, identified by NOAA-NMFS-2019-0133, by any of the following methods:

• Electronic Submissions: Submit all electronic public comments via the Federal e-Rulemaking Portal. Go to www.regulations.gov/#!docketDetail;D=NOAA-NMFS-2019-0133, click the “Comment Now!” icon, complete the required fields, and enter or attach your comments. The EFP applications will be available under Supporting Documents through the same link.

• Mail: Submit written comments to Lynn Massey, West Coast Region, NMFS, 501 W Ocean Blvd., Ste. 4200, Long Beach, CA 90802-4250.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Lynn Massey, West Coast Region, NMFS, (562) 436-2462, lynn.massey@noaa.gov.

SUPPLEMENTARY INFORMATION: This action is authorized by the Pacific Coast Groundfish Fishery Management Plan and the regulations implementing the Magnuson-Stevens Fishery Conservation and Management Act at 50 CFR 600.745, which state that NMFS may issue exempted fishing permits (EFP) to authorize fishing activities that would otherwise be prohibited.

At the June 2018 Pacific Fishery Management Council (Council) meeting, the Council voted to recommend the following three 2019 EFP projects to NMFS, and made the preliminary decision to recommend continuing the EFP projects in 2020:

• Yellowtail Rockfish Jig Fishing for the 2019-2020 Fishing Seasons (San Francisco Community Fishing Association);

• Commercial Midwater Hook-and-Line Rockfish Fishing in the RCA off the Oregon Coast (Scott Cook); and,

• Monterey Bay Regional Exempted Fishing Permit—Chilipepper Rockfish (Real Good Fish).

NMFS published a description of the EFP projects in the Federal Register on September 6, 2018 (83 FR 45224), and solicited public comments through October 9, 2018. NMFS received one public comment in support of issuing the EFPs.

At the November 2019 Council meeting, the Council confirmed its recommendation to renew all three EFP projects for the 2020 fishing year. All three EFP applicants request to continue testing hook-and-line gear that selectively targets underutilized, midwater rockfish species (e.g. yellowtail rockfish) while avoiding overfished, bottom-dwelling rockfish species (e.g. yelloweye rockfish). An EFP is necessary for these activities because they will all occur inside the non-trawl rockfish conservation area (RCA), which is closed to fishing with non-trawl fixed gear to protect overfished groundfish stocks.

The only requested change for 2020 was an additional exemption for the Real Good Fish EFP project, which would permit vessel participants to take an EFP trip without a vessel monitoring system (VMS). The primary purpose of VMS is to monitor vessel movement to ensure that vessels do not fish in restricted areas. The current EFP exempts vessels from a prohibition on fishing in a restricted area (i.e., the non-trawl RCA). In addition, there are no other closed areas near the area where vessels would conduct EFP fishing activity, and vessels are only permitted to conduct EFP fishing activities on EFP trips. For these reasons, it is not necessary to use VMS to monitor EFP vessel fishing activity inside the non-trawl RCA, or near the area where vessels would conduct EFP fishing activities. Therefore, NMFS does not expect any unintended biological impacts or enforcement issues if it issues this exemption. All EFP trips are still subject to specific catch limits and must carry an observer.

All applicants will adhere to EFP set-asides for targeted and incidental groundfish and other species, which the Council considered and approved for both the 2019 and 2020 fishing years at its June 2018 meeting. These EFP set-asides are off the top deductions from the 2020 applicable annual catch limits (ACLs), meaning any landings and discards that occur under these EFPs would be accounted for within the applicable ACLs.

Authority: 16 U.S.C. 1801 et seq., 16 U.S.C. 773 et seq., and 16 U.S.C. 7001 et seq.

Dated: November 21, 2019.
Jennifer M. Wallace,
Acting Director, Office of Sustainable Fisheries, National Marine Fisheries Service.

[FR Doc. 2019-25696 Filed 11-26-19; 8:45 am]

BILLING CODE 3510-22-P